DEPARTMENT OF COMMERCE

International Trade Administration

[A-533-840]

Certain Frozen Warmwater Shrimp From India: Final Results of Antidumping Duty Administrative Review; 2023-2024

AGENCY: Enforcement and Compliance, International Trade Administration, Department of Commerce.

SUMMARY: The U.S. Department of Commerce (Commerce) determines that producers/exporters subject to this administrative review made sales of subject merchandise at less than normal value during the period of review (POR), February 1, 2023, through January 31, 2024.

DATES: Applicable February 9, 2026.

FOR FURTHER INFORMATION CONTACT: Ajay Menon, AD/CVD Operations, Office IX, Enforcement and Compliance, International Trade Administration, U.S. Department of Commerce, 1401 Constitution Avenue NW, Washington, DC 20230; telephone: (202) 482-0208.

SUPPLEMENTARY INFORMATION:

Background

On June 11, 2025, Commerce published the Preliminary Results.¹ On July 15, 2025, Commerce issued a post-preliminary analysis memorandum to: (1) address the American Shrimp Processors Association's (ASPA) particular market situation allegation; and (2) make certain changes to our differential pricing analysis, and we invited interested parties to comment.² On August 6, 2025, the Ad Hoc Shrimp Trade Action Committee (the petitioner); the Devi Group; ³ Sandhya Aqua Exports Private Limited (Sandhya); Alpha Marine Limited (Alpha Marine); and the Indian Exporters ⁴ submitted case briefs.⁵ On August 11, 2025, the petitioner and ASPA submitted rebuttal briefs.⁶

¹ See Certain Frozen Warmwater Shrimp from India: Preliminary Results of Antidumping Duty Administrative Review; 2023-2024, 90 FR 24569 (June 11, 2025) (Preliminary Results), and accompanying Preliminary Decision Memorandum.

² See Memorandum, “Post Preliminary Analysis in the 2023-2024 Administrative Review of the Antidumping Duty Order on Certain Frozen Warmwater Shrimp from India,” dated July 15, 2025 (Post Preliminary Analysis).

³ The Devi Group consists of Devi Fisheries Limited, Satya Seafoods Private Limited, Usha Seafoods, and Devi Aquatech Private Limited. See Certain Frozen Warmwater Shrimp from India: Final Results of Antidumping Duty Administrative Review; 2016-2017, 83 FR 32835 (July 16, 2018).

⁴ The Indian Exporters are: (1) the Ananda Group; (2) Avanti Frozen Foods Private Limited; (3) Apex Frozen Foods Limited; (4) Nekkanti Sea Foods Limited; (5) Sagar Grandhi Exports (P) Ltd; (6) Falcon Marine Exports Limited; and (7) LNSK Green House Agro Products LLP.

⁵ See Petitioner's Letter, “Case Brief,” dated August 6, 2025; see also Devi's Letter, “Devi Fisheries Limited's submission of Case Brief relating to preliminary results and post-preliminary analysis of above proceedings,” dated August 6, 2025; Sandhya's Letter, “Sandhya's Case Brief,” dated August 6, 2025; Alpha Marine's Letter, “Alpha Marine Limited Case Brief,” dated August 6, 2025; and Indian Exporters' Letter, “Indian Producer/Exporters' Case Brief,” dated August 6, 2025.

⁶ See Petitioner's Letter, “Rebuttal Brief,” dated August 11, 2025; see also ASPA's Letter, “American Shrimp Processors Association's Rebuttal Case Brief,” dated August 11, 2025.

On September 25, 2025, Commerce extended the deadline for the final results until November 7, 2025.⁷ Due to the lapse in appropriations and Federal Government shutdown, on November 14, 2025, Commerce tolled all deadlines in administrative proceedings by 47 days.⁸ Additionally, due to a backlog of documents that were electronically filed via Enforcement and Compliance's Antidumping and Countervailing Duty Centralized Electronic Service System (ACCESS) during the Federal Government shutdown, on November 24, 2025, Commerce tolled all deadlines in administrative proceedings by an additional 21 days.⁹ On December 22, 2025, Commerce further extended the deadline for the final results.¹⁰ Accordingly, the deadline for these final results is now January 28, 2026.

⁷ See Memorandum, “Extension of Deadline for Final Results of 2023-2024 Antidumping Duty Administrative Review,” dated September 25, 2025.

⁸ See Memorandum, “Deadlines Affected by the Shutdown of the Federal Government,” dated November 14, 2025.

⁹ See Memorandum, “Tolling of all Case Deadlines,” dated November 24, 2025.

¹⁰ See Memorandum, “Extension of Deadline for Final Results of 2023-2024 Antidumping Duty Administrative Review,” dated December 22, 2025.

For a complete description of the events that occurred since the Preliminary Results, see the Issues and Decision Memorandum.¹¹ The Issues and Decision Memorandum is a public document and is on file electronically via ACCESS. ACCESS is available to registered users at https://access.trade.gov. In addition, a complete version of the Issues and Decision Memorandum can be accessed directly at https://access.trade.gov/public/FRNoticesListLayout.aspx.

¹¹ See Memorandum, “Issues and Decision Memorandum for the Final Results of the Antidumping Duty Administrative Review of Certain Frozen Warmwater Shrimp from India; 2023-2024,” dated concurrently with, and hereby adopted by, this notice (Issues and Decision Memorandum).

Commerce conducted this administrative review in accordance with section 751 of the Tariff Act of 1930, as amended (the Act).

Scope of the Order ¹²

¹² See Notice of Amended Final Determination of Sales at Less Than Fair Value and Antidumping Duty Order: Certain Frozen Warmwater Shrimp from India, 70 FR 5147 (February 1, 2005) (Order).

The merchandise subject to the Order is shrimp from India. For a complete description of the scope of the Order, see the Issues and Decision Memorandum.

Analysis of Comments Received

All issues raised in the case and rebuttal briefs submitted by interested parties are listed in Appendix I to this notice and addressed in the Issues and Decision Memorandum.

Changes Since the Preliminary Results and Post Preliminary Analysis

Based on our analysis of the comments received from interested parties, we made certain changes to the weighted average dumping margins for the Devi Group and Sandhya. For a discussion of these changes, see the Issues and Decision Memorandum.

Review-Specific Rate for Non-Examined Companies

The Act and Commerce's regulations do not address the establishment of a weighted-average dumping margin to be applied to companies not selected for individual examination when Commerce limits its examination in an administrative review pursuant to section 777A(c)(2) of the Act. Generally, Commerce looks to section 735(c)(5) of the Act, which provides instructions for calculating the all-others rate in a less-than-fair-value (LTFV) investigation, for guidance when calculating the weighted-average dumping margin for companies which were not selected for individual examination in an administrative review. Under section 735(c)(5)(A) of the Act, the all-others rate is normally an amount equal to the weighted average of the estimated weighted-average dumping margins established for exporters and producers individually investigated, excluding any zero or de minimis margins, and any margins determined entirely on the basis of facts available.

Consistent with section 735(c)(5)(A) of the Act, we calculated the weighted-average dumping margin for the non-selected companies using the calculated rates of the mandatory respondents, the Devi Group and Sandhya, which are not zero or de minimis, or determined entirely on the basis of facts available.¹³

¹³ See Memorandum, “Calculation of the Cash Deposit Rate for Non-Reviewed Companies for the Final Results in the 2023-2024 Administrative Review of the Antidumping Duty Order on Frozen Warmwater Shrimp from India,” dated concurrently with this notice; see also Attachment II, for the list of companies not selected for individual examination.

Final Results of Review

For these final results of this review, we determine the following estimated weighted-average dumping margins exist for the period February 1, 2023, through January 31, 2024:

Producer or exporter | Weighted-average dumping margin (percent)
Devi Fisheries Limited; Satya Seafoods Private Limited; Usha Seafoods; Devi Aquatech Private Limited | 2.71
Sandhya Aqua Exports Private Limited | 5.08
Review-Specific Rate for Companies Not Selected for Individual Examination ¹⁴ | 3.76

Disclosure

¹⁴ See Appendix II.

Commerce intends to disclose the calculations and analysis performed in connection with the final results of this administrative review to interested parties within five days of any public announcement or, if there is no public announcement, within five days of the publication date of this notice in the Federal Register, in accordance with 19 CFR 351.224(b).

Assessment Rates

Pursuant to section 751(a)(2)(C) of the Act and 19 CFR 351.212(b)(1), Commerce has determined, and U.S. Customs and Border Protection (CBP) shall assess, antidumping duties on all appropriate entries of subject merchandise in accordance with the final results of this review. Pursuant to 19 CFR 351.212(b)(1), because both the Devi Group and Sandhya reported the entered value for all of their U.S. sales, we calculated importer-specific ad valorem duty assessment rates based on the ratio of the total amount of antidumping duties calculated for each importer's examined sales to the total entered value of these sales. Where an importer-specific assessment rate is de minimis (i.e., less than 0.5 percent), we will instruct CBP to liquidate the appropriate entries without regard to antidumping duties.

Commerce's “automatic assessment” practice will apply to entries of subject merchandise during the POR produced by the Devi Group or Sandhya for which the reviewed companies did not know that the merchandise they sold to an intermediary (e.g., a reseller, trading company, or exporter) was destined for the United States. In such instances, we will instruct CBP to liquidate unreviewed entries at the all-others rate established in the LTFV investigation if there is no rate for the intermediate company(ies) involved in the transaction.¹⁵

¹⁵ For a full discussion of this practice, see Antidumping and Countervailing Duty Proceedings: Assessment of Antidumping Duties, 68 FR 23954 (May 6, 2003).

For the companies not selected for individual examination, we will instruct CBP to assess antidumping duties on all appropriate entries at the review-specific rate, calculated as noted in the “Review-Specific Rate for Non-Examined Companies” section, above.¹⁶

¹⁶ See section 735(c)(5)(A) of the Act.

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective for all shipments of the subject merchandise entered, or withdrawn from warehouse, for consumption on or after the publication date of the final results of this administrative review, as provided by section 751(a)(2)(C) of the Act: (1) the cash deposit rate for the company listed above will be equal to the weighted-average dumping margin that is established in the final results of this review, except if the rate is less than 0.50 percent and, therefore, de minimis within the meaning of 19 CFR 351.106(c)(1), in which case the cash deposit rate will be zero; (2) for previously investigated or reviewed companies not listed above, the cash deposit rate will continue to be the company-specific rate published for the most recently completed segment of this proceeding in which the company participated; (3) if the exporter is not a firm covered in this review, a prior review, or the LTFV investigation, but the producer is, the cash deposit rate will be the cash deposit rate established for the most recently completed segment for the producer of the subject merchandise; and (4) the cash deposit rate for all other producers or exporters will continue to be 10.17 percent, the all-others rate established in the LTFV investigation.¹⁷ These deposit requirements, when imposed, shall remain in effect until further notice.

¹⁷ See Order.

Administrative Protective Order (APO)

This notice serves as the only reminder to parties subject to an APO of their responsibility concerning the disposition of proprietary information disclosed under APO in accordance with 19 CFR 351.305(a)(3), which continues to govern business proprietary information in this segment of the proceeding. Timely written notification of return/destruction of APO materials or conversion to judicial protective order is hereby requested. Failure to comply with the regulations and the terms of an APO is a sanctionable violation.

Notification to Importers

This notice serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of doubled antidumping duties.

Notification to Interested Parties

This notice is issued and published in accordance with sections 751(a)(1) and 777(i)(1) of the Act.

Dated: January 28, 2026.
Christopher Abbott,
Deputy Assistant Secretary for Policy and Negotiations, performing the non-exclusive functions and duties of the Assistant Secretary for Enforcement and Compliance.

Appendix I

List of Topics Discussed in the Issues and Decision Memorandum

I. Summary

II. Background

III. Scope of the Order

IV. Changes Made Since the Preliminary Results and Post Preliminary Analysis

V. Discussion of the Issues

Comment 1: Differential Pricing Analysis

Comment 2: Existence of a Particular Market Situation

Comment 3: PMS Adjustment

Comment 4: Commerce's Selection of Mandatory Respondents in this Administrative Review

Comment 5: Review-Specific Rate Calculation

Comment 6: Whether to Assign the Review-Specific Rate to Alpha Marine Limited

Comment 7: Whether to Make an Export Subsidy Offset

Comment 8: Costs for Products Sold but Not Produced During the POR

Comment 9: Whether to Revise the Devi Group's Forward Exchange Rate Calculation

Comment 10: Whether to Deduct Third Country Indirect Selling Expenses from Net Price for Sandhya

Comment 11: Whether to Collapse Sandhya with Neeli Sea Foods Private Limited

Comment 12: Whether to Correct the Per-Unit Conversion of Sandhya's Cost of Production

VI. Recommendation

Appendix II

Companies Not Selected for Individual Examination

1. Abad Overseas Private Limited.

2. Accelerated Freeze Drying Co., Ltd.

3. Akshay Food Impex Private Limited

4. Alashore Marine Exports (P) Ltd.

5. Albys Agro Private Limited

6. Alpha Marine; Alpha Marine Limited ¹⁸

¹⁸ We note that the rate assigned to Alpha Marine also applies to Alpha Marine Limited, a name variation of the same company. For further discussion, see the Issues and Decision Memorandum at Comment 6.

7. Amaravathi Aqua Exports Private Ltd.

8. Ananda Aqua Applications; Ananda Aqua Exports (P) Limited; Ananda Foods

9. Ananda Enterprises (India) Private Limited

10. Aparna Marine Exports

11. Apex Frozen Foods Limited

12. Aquatica Frozen Foods Global Pvt. Ltd.

13. Arya Sea Foods Private Limited

14. Asvini Fisheries Ltd.; Asvini Fisheries Private Ltd.

15. Avanti Frozen Foods Private Limited

16. Blue-Fin Frozen Foods Pvt Ltd.

17. BMR Exports; BMR Exports Private Limited

18. BMR Industries Private Limited

19. B-One Business House Pvt. Ltd.

20. Calcutta Seafoods Pvt. Ltd.; Bay Seafood Pvt. Ltd.; Elque Ventures Private Limited

21. Castlerock Fisheries Ltd.

22. Choice Trading Corporation Pvt. Ltd.

23. Coastal Aqua Private Limited

24. Coastal Corporation Ltd.

25. Corlim Marine Exports Private Limited

26. Crystalnova Foods Pvt., Ltd.

27. Diamond Seafoods Exports; Edhayam Frozen Foods Pvt. Ltd.; Kadalkanny Frozen Foods; Theva & Company

28. DN Sea Shells Private Limited

29. Dwaraka Sea Foods

30. Falcon Marine Exports Limited; KR Enterprises

31. Food Products Pvt., Ltd.; Parayil Food Products Pvt., Ltd.

32. Forstar Frozen Foods Private Limited

33. Geo Seafoods

34. Godavari Mega Aqua Food Park Private Limited

35. Green Asia Impex Private Limited

36. Growel Processors Private Limited

37. Highland Agro Food Private Limited

38. Hyson Exports Private Limited

39. IFB Agro Industries Ltd.

40. ITC Ltd.

41. Jagadeesh Marine Exports

42. Jaya Lakshmi Sea Foods Pvt. Ltd.

43. Kader Exports Private Limited

44. Kalyan Aqua & Marine Exp. India Pvt. Ltd.

45. Kay Kay Exports; Kay Kay Foods

46. KNC Agro Limited; KNC AGRO PVT. LTD.

47. LNSK Greenhouse Agro Products LLP

48. Magnum Export; Magnum Exports Pvt. Ltd.

49. Magnum Sea Foods Limited; Magnum Estates Limited; Magnum Estates Private; Magnum Estates Private Limited

50. Mangala Marine Exim India Pvt. Ltd.

51. Mangala Seafoods; Mangala Sea Foods

52. Megaa Moda Pvt. Ltd.

53. Milesh Marine Exports Private Limited

54. Milsha Agro Exports Pvt. Ltd.

55. Mindhola Foods LLP

56. MMC Exports Limited

57. Monsun Foods Pvt. Ltd.

58. Mourya Aquex Pvt. Ltd.

59. Munnangi Seafoods (Pvt) Ltd.

60. Naga Hanuman Fish Packers

61. Nanak Nutritions Food (Taloja) Pvt., Ltd.

62. Neeli Aqua Private Limited

63. Nekkanti Sea Foods Limited

64. Nezami Rekha Sea Foods Private Limited; Nezami Rekha Sea Food Private Limited

65. Nila Sea Foods Exports; Nila Sea Foods Pvt. Ltd.

66. N.K. Marine Exports LLP

67. Pasupati Aquatics Private Limited

68. Penver Products (P) Ltd.

69. Rajyalakshmi Marine Exports

70. Razban Seafoods Ltd.

71. Royal Imports and Exports

72. Royale Marine Impex Pvt. Ltd.

73. RSA Marines; Royal Oceans

74. S.A. Exports

75. Sagar Grandhi Exports Pvt. Ltd.

76. Sai Marine Exports Pvt. Ltd.

77. Sam Aqua Exports LLP

78. Sandhya Marines Limited

79. Satish Marine Exim Private Limited

80. Sea Foods Private Limited

81. Sharat Industries Ltd.

82. Shimpo Exports Private Limited

83. Shree Datt Aquaculture Farms Pvt. Ltd.

84. Sigma Seafoods

85. Southern Tropical Foods Pvt. Ltd.

86. Sprint Exports Pvt. Ltd.

87. Sreeragam Export Private Limited

88. Summit Marine Exports Private Limited

89. Sunrise Seafoods India Private Limited

90. Suryamitra Exim Pvt. Ltd.

91. The Waterbase Ltd.

92. V.V. Marine Products

93. Vaisakhi Bio-Marine Private Limited

94. Varma Marine Private Limited

95. Vasista Marine

96. Veerabhadra Exports Private Limited

97. Wellcome Fisheries Limited

98. Z.A. Sea Foods Pvt. Ltd.

99. Zeal Aqua Limited

[FR Doc. 2026-02486 Filed 2-6-26; 8:45 am]

BILLING CODE 3510-DS-P